DEPARTMENT OF THE TREASURY

Internal Revenue Service

Proposed Collection; Comment Request for Form 4506-T; Correction

AGENCY: Internal Revenue Service (IRS), Treasury.

ACTION: Correction to notice and request for comments.

SUMMARY: This document contains a correction to a notice and request for comments, which was published in the Federal Register on Wednesday, February 18, 2004 (69 FR 7670). This notice relates to a comment request on proposed collection on form 4506-T.

FOR FURTHER INFORMATION CONTACT: Carol A. Savage (202) 622-3945 (not a toll-free number).

SUPPLEMENTARY INFORMATION:

Background

The notice and request for comments that is the subject of this correction is required by the Paperwork Reduction Act of 1995, Pub. L. 104-13 (44 U.S.C. 3506(c)(2)(A)).

Need for Correction

As published, the comment request for Form 4506-T contains an error which may prove to be misleading and is need of clarification.

Correction of Publication

Accordingly, the publication of the comment request for Form 4506-T, which was the subject of FR Doc. 04-3465, is corrected as follows:

(1) On page 7670, column 1, under the caption SUPPLEMENTARY INFORMATION, the language, “OMB Number: 1545-1873.” is corrected to read “OMB Number: 1545-1872.”

LaNita Van Dyke,
Acting Chief, Publications and Regulations Branch, Legal Processing Division, Associate Chief Counsel, (Procedure and Administration).

[FR Doc. 04-10014 Filed 4-30-04; 8:45 am]

BILLING CODE 4830-01-P